FEDERAL COMMUNICATIONS COMMISSION

47 CFR Parts 1, 2, 15, 25, 27, 74, 78, and 101

[GN Docket No. 22-352; DA 23-794; FR ID 171507]

BAS and CARS Licensees Must Certify the Accuracy of the Information on Their 12.7-13.25 GHz Band Licenses

AGENCY: Federal Communications Commission.

ACTION: Procedure for filing certification.

SUMMARY: In this document, the Wireless Telecommunications Bureau (WTB), in coordination with the Media Bureau (MB) provides detailed instructions for 12.7-13.25 GHz band (12.7 GHz band) Broadband Auxiliary Service (BAS) and Cable Television Relay Services (CARS) licensees to file certifications of accuracy, or modification applications to correct, existing information in the Universal Licensing System (ULS) and Cable Operations & Licensing System (COALS), respectively, and these Bureaus establish a window for the filing of these certifications.

DATES: The mandatory compliance deadline to file certifications or modification applications is November 29, 2023.

ADDRESSES: Federal Communications Commission, 45 L Street NE, Washington, DC 20554.

FOR FURTHER INFORMATION CONTACT: BAS licensees. For technical assistance with filing a Certification or FCC Form 601, contact the ULS Support Hotline at 877-480-3201, option 2; or 717-338-2824 (TTY) or ASL Videophone: 844-432-2275. The ULS Support Hotline is available Monday through Friday from 8 a.m. to 6 p.m. ET. There are no weekend hours, and the hotline is closed on all Federal holidays. To provide quality service and ensure security, all telephone calls are recorded. Inquiries may also be submitted via the internet at www.fcc.gov/support. For non-technical questions: contact Simon Banyai, Senior Attorney, Broadband Division, WTB, at simon.banyai@fcc.gov or (202) 418-1443. CARS licensees. For technical assistance with filing a Certification or FCC Form 327, contact form327@fcc.gov or COALS_Help@fcc.gov. For non-technical questions: contact Jeffrey Neumann, Chief Engineer, MB, at jeffrey.neumann@fcc.gov or (202) 418-2046.

SUPPLEMENTARY INFORMATION: This is a summary of the WTB and MB document, GN Docket No. 22-352; DA 23-794, released on August 31, 2023. The released, formatted version of this document, including Attachment 1 (Example of Certification of Accuracy for BAS License) and Attachment 2 (Example of Certification of Accuracy for CARS License) is available at https://docs.fcc.gov/public/attachments/DA-23-794A1.pdf. Text and Microsoft Word formats are also available (replace “.pdf” in the link with “.txt” or “.docx”, respectively. Alternative formats are available for people with disabilities (braille, large print, electronic files, audio format), by sending an email to fcc504@fcc.gov or call the Commission's Consumer and Governmental Affairs Bureau at (202) 418-0530 (voice), (202) 418-0432 (TTY).

Synopsis

On May 19, 2023, the Commission released a Notice of Proposed Rulemaking (NPRM) and Order in the above-referenced docket proposing to repurpose some or all of the 12.7-13.25 GHz band (12.7 GHz band) spectrum for mobile broadband or other expanded use.¹ To improve the data that the public and the Commission have to make informed comments and decisions about the proposals discussed in the NPRM, the Commission's Order directed non-exempt fixed and mobile Broadcast Auxiliary Services (BAS) and Cable Television Relay Services (CARS) licensees in the 12.7 GHz band to certify the accuracy of the information reflected on their licenses, including whether the facilities are operating as authorized.² In the NPRM, the Commission proposes to define certain incumbent operations entitled to protection or relocation during a transition period based on the Commission's licensing records.³

¹ See Expanding Flexible Use of the 12.2-12.7 GHz Band; Expanding Use of the 12.7-13.25 GHz Band for Mobile Broadband or Other Expanded Use, WT Docket No. 20-443, GN Docket No. 22-352, FCC 23-36, Report and Order and Further Notice of Proposed Rulemaking and Notice of Proposed Rulemaking and Order, 2023 WL 3686032, at *25-54, paragraphs. 58-147 (May 19, 2023) (NPRM and Order). The NPRM and Order were subsequently published separately in the Federal Register. See NPRM, 88 FR 43938 (July 10, 2023), and Order, 88 FR 43460 (July 10, 2023).

² NPRM and Order at *53, paragraph. 145. See generally id.

³ See NPRM and Order at *34, paragraph. 83; see also id. at *54, paragraph. 147.

For non-exempt BAS and CARS licenses, the Commission proposes to limit eligibility for incumbent status to licenses for which the licensee has filed the required certification.

By this document, WTB, in coordination with MB, (1) provides detailed instructions for 12.7 GHz band BAS and CARS licensees to file certifications regarding existing information in the Universal Licensing System (ULS) and the Cable Operations & Licensing System (COALS), respectively; and, (2) establishes a window for the filing of these certifications.⁴

⁴ See NPRM and Order at *53, paragraph. 145. As noted in the Order portion of the item, the certification of accuracy is not an “information collection” for purposes of the Paperwork Reduction Act of 1995 (PRA) and not subject to approval from the Office of Management and Budget. See id. at n.430 (citing 5 CFR 1320.3(h)(1)).

1. Exemption for New or Modified Licenses Applied-for on or After Jan. 1, 2021

A licensee that filed an application, on or after January 1, 2021, for a new or modified BAS or CARS license to operate in the 12.7 GHz band is exempt from this certification requirement as to the specific license (Call Sign) involved in that application filed on or after January 1, 2021.⁵ Such a licensee is nevertheless required to make corrections to its license if necessary to keep the license accurate and complete. We clarify that a licensee who files a modification application on or before November 29, 2023, as described in section 5 below, to correct or complete information in the Commission's licensing databases, does not need to file a certification for that particular license. A licensee is required to file a certification for any other 12.7 GHz band BAS or CARS licenses that it holds that are not exempt from the certification requirement.

⁵ See id. We clarify that the exemption for modification applications includes applications for both renewal and modification (but does not include renewal-only applications).

2. Window for Filing of Certifications

Non-exempt 12.7 GHz band BAS and CARS licensees may file their required certifications beginning on or after the August 31, 2023, release date of DA 23-794. The deadline for filing required certifications is no later than November 29, 2023. If a licensee is unable to make the certification for a license because, e.g., required technical data are inaccurate, missing or incomplete, the license has terminated automatically, or the facilities are not operating as authorized, the licensee must cancel the license or file a modification application to correct the data reflected in the license no later than November 29, 2023 (see section 5, below). If such a modification application is ultimately granted, the modified license will be considered timely certified. In general, certifications must be made as follows:

• BAS licensees must file their certifications in ULS.

• CARS licensees must file their certifications in COALS.

• Do not file certifications in the Electronic Comments Filing System (ECFS).

3. Certifications for BAS Licenses in ULS

For each non-exempt BAS license in the 12.7 GHz band, if the information reflected on the license in ULS is accurate and complete under the rules and application forms applicable to the BAS license, and the facilities are operating as authorized,⁶ the licensee must certify (1) the present accuracy of all information reflected in the license, and (2) that the facilities are operating as authorized. Each certification must include the relevant Call Sign, any relevant file number(s), the name of the licensee, and the signature, printed name, and title, if applicable, of the individual making the certification. For example, a certification of accuracy for a BAS license should provide the Licensee Name and Call Sign and state that:

⁶ See 47 CFR 74.600-74.690. See also FCC Form 601 Schedule I (Technical Data Schedule for the Fixed Microwave and Microwave Broadcast Auxiliary Services (Parts 101 and 74)).

Pursuant to the FCC's Order in FCC 23-36 and the Public Notice, DA 23-794, the undersigned authorized agent of the licensee, individually and for the licensee, hereby certifies that all information reflected in this license in the FCC's Universal Licensing System, including any attachments or exhibits, is true, complete and correct. The facilities authorized by this license are operated as authorized and the license is not subject to automatic termination in whole or in part. See 47 CFR 1.946(c), 1.953, 1.955 (automatic termination based on expiration without renewal, failure to timely construct, permanent discontinuance of operations). This certification is made under penalty of perjury to the best of my knowledge and belief, and is made in good faith.

Such a certification must be signed by an authorized agent. See Attachment 1 to the released, formatted version of this document at https://docs.fcc.gov/public/attachments/DA-23-794A1.pdf).

How to file. BAS licensees must file their certifications in ULS using the online portal for non-docketed Pleadings, https://wireless2.fcc.gov/UlsEntry/pleadings/pleadingsType.jsp. On the first screen, select “Licensee Certification of Accuracy of License Data” for the Pleading Type, complete the Filer Information using the name of the Licensee as the Company, and the Contact Information.

• On the next screen, select “ULS Call Sign,” enter the Call Sign in the text box, and Submit. (If a licensee is uploading one certification file for multiple Call Signs, there is an option to add additional Call Signs.)

• The Call Sign will appear below the message: “Your Pleading will be associated with the following Call Sign(s)/File Number(s)/Registration Number(s).” Click the box next to the Call Sign(s) to checkmark it.

• On the next screen, you will attach your certification file. Select “Pleading” as the Type, click “Browse” to navigate to and select your file for attachment, and add a Description such as “Certification for Call Sign(s) __.”

• Review the “Current Attachments” list to confirm that your file uploaded.

4. Certifications for CARS Licenses in COALS

For each non-exempt CARS license in the 12.7 GHz band, if the information reflected on the license in COALS is accurate and complete under the rules and application forms applicable to the CARS license, and the facilities are operating as authorized,⁷ the licensee must certify (1) the present accuracy of all information reflected in the license, and (2) that the facilities are operating as authorized. Each certification must include the relevant Call Sign, any relevant file number(s), the name of the licensee, and the signature, printed name, and title, if applicable, of the individual making the certification. For example, a certification of accuracy for a CARS license should provide the Licensee Name and Call Sign and state that:

⁷ See id. §§ 78.1-78.115. See also FCC Form 327.

Pursuant to the FCC's Order in FCC 23-36 and the Public Notice, DA 23-794, the undersigned authorized agent of the licensee, individually and for the licensee, hereby certifies that all information reflected in this license in the Cable Operations and Licensing System, including any attachments or exhibits, is true, complete and correct. The facilities authorized by this license are constructed and operational as authorized and the license is not subject to automatic termination in whole or in part due to voluntary removal or alteration of the facilities, so as to render the station not operational for a period of 30 days or more, see 47 CFR 78.30(a), or for permanent discontinuance of operations, see 47 CFR 78.30(b). This certification is made under penalty of perjury to the best of my knowledge and belief, and is made in good faith.

Such a certification must be signed by an authorized agent. See Attachment 2 to the released, formatted version of this document at https://docs.fcc.gov/public/attachments/DA-23-794A1.pdf) for an example.

How to file. CARS licensees must file their certifications in COALS by accessing the COALS Portal at https://fccprod.servicenowservices.com/coals.

• After logging in with a Commission Registration System (CORES) Username and Password, select the FRN of the business entity which holds the license.

• From the list of CARS licenses on the COALS dashboard, select each license for which a certification must be filed.

• The license will display an option to complete a certification form; selecting this option will present the certification with the relevant information pre-filled, similar to Attachment 2 of the released, formatted version, and will allow the submission of the form.

5. Modification Applications

If a licensee is unable to make the certification for a license because, for example, the license's required technical data are inaccurate, missing or incomplete; the license has terminated automatically; or the license facilities are not operating as authorized, the licensee must cancel the license or file a modification application no later than November 29, 2023, to correct the information reflected in the license in accordance with the Commission's rules and the relevant application forms and instructions. If a licensee files a modification application, it does not need to file a certification for that license.

a. Exception or Waiver of Filing Freeze To File Modification Applications

A freeze is in effect on the filing of new or modification applications for licenses or other authorizations in the 12.7 GHz band.⁸ The purpose of this freeze is to preserve the current landscape of authorized operations in the 12.7 GHz band pending the Commission's consideration of actions in GN Docket No. 22-352. During the freeze, WTB and MB will dismiss applications received for new or major modifications to fixed or mobile BAS and CARS stations to operate in the 12.7 GHz band, respectively.⁹

⁸ See 180-Day Freeze on Applications for New or Modified Authorizations for the 12.7-13.25 GHz Band, Public Notice, DA 22-974, 2022 WL 4358635 (IB/PSHSB/MB/WTB Sept. 19, 2022), 87 FR 63494 (Oct. 19, 2022) (Freeze Public Notice); Expanding Use of the 12.7-13.25 GHz Band for Mobile Broadband or Other Expanded Use, GN Docket No. 22-352, Notice of Inquiry and Order, FCC 22-80, 2022 WL 16634851, at *14, paragraph. 44 (Oct. 28, 2022) (the Commission ordered the extension of the temporary freeze pending the outcome of GN Docket No. 22-352 and clarified that the Bureaus retain jurisdiction to modify the freeze notwithstanding this order) (Freeze Extension Order), 87 FR 67688 (Nov. 9, 2022).

⁹ See Freeze Public Notice at *1-2.

The freeze does not extend to BAS and CARS applications for renewal, cancellation, or to minor modifications,¹⁰ if the licensee establishes in an exhibit attached to its application that the modification would not add to any relocation costs, if applicable in the future. The appropriate Bureau also will consider requests for waiver of this freeze on a case-by-case basis. Accordingly, BAS and CARS licensees filing modification applications must either establish in an exhibit uploaded as an attachment that the application is minor and would not add to any relocation costs, or they must request a waiver of the freeze (see details below).

¹⁰ See 47 CFR 1.947(b) (licensees may make certain minor modifications to station authorizations, as defined in § 1.929 (Classification of filings as major minor). Section 1.929(d) discusses major actions in the microwave, aural broadcast auxiliary, and television broadcast auxiliary services and § 1.929(k) states that any change not specifically listed as major is considered minor. See 47 CFR 1.929(d) and (k); see also id. at §§ 78.109(c) through(d) (defining minor modifications for CARS licenses).

b. BAS Modification Applications in ULS

BAS licensees must file modification applications in ULS.

• Access ULS through an internet web browser by entering www.fcc.gov/uls. Under the “Filing” section of the ULS homepage, click the “File Online” hyperlink.

• On the “ULS License Manager Login” page, enter the applicant's FRN and password. Click “Submit.” ULS will verify that you have entered a valid FRN or otherwise prompt you to obtain an FRN.

• After entering the FRN and password correctly, the “My Applications” page or the “My Licenses” page displays the applicant's existing applications (if any) and licenses and related information.

• To apply to modify an existing license, click the “My Licenses” link in the left-hand navigation menu. Click “Update Licenses” and then select the Call Sign to be modified. Click Continue.

• Select the appropriate update. Available options include “Technical Data,” which covers locations, antennas, frequencies, etc.

• Supply the information requested by FCC Form 601 and the Commission's rules. Complete the questions on the pages as they appear, following the onscreen prompts and instructions. Use the buttons at the bottom of each page to continue to the next page or go back to the previous page. Provide attachments as instructed by clicking the “Attachments” link at the top of the page. Be sure to use the standard attachment types (Word, Adobe Acrobat) and file descriptions.

• Unless you are attaching an exhibit that establishes that your application is excepted from the filing freeze (see section 5.a. above), you must request a waiver of the filing freeze. Select “Yes” to the question “Does this application include a request for a Waiver of the Commission's Rule(s)?” Then upload an exhibit that demonstrates that waiving the filing freeze for your application would serve the public interest and not undermine the objectives of the freeze.¹¹ The request should be filed with the corresponding application. Upload the waiver request as a file, select Attachment Type “Waiver” and enter “Waiver Request” in the “Description” field on the “Attachments” page.

¹¹ See Freeze Public Notice at *2.

c. CARS Modification Applications in COALS

CARS licensees must file modifications in COALS by accessing the COALS Portal at https://fccprod.servicenowservices.com/coals.

• After logging in with a CORES Username and Password, select the FRN of the business entity which holds the license. From the list of CARS licenses on the COALS dashboard, select the license for which a modification is needed. COALS will display the option to complete a major or minor modification.

• Select the appropriate option.

○ In situations where online records reference paper filings (e.g., “See File” is displayed instead of paths, frequencies, or other information; or information available online is simply blank), the filing fee for the modification application as well as the freeze on the filing of modification applications will be waived to allow the licensee to enter data from paper filings to COALS. To request a waiver of the filing fee, select “Request Waiver of Filing Fee” for Major Modifications option and provide a short explanation of the reason the fee should be waived (e.g., that data in the online system references prior paper filings and the instant application is limited to entering accurate data from paper filings to COALS). Additionally, while helpful, where filers are providing missing information, Exhibit A-4, the “Result of a Frequency Coordination Study,” is not required and a statement that the paper license that is being entered into COALS has been previously coordinated will suffice.¹²

¹² Ordinarily, FCC Form 327, Schedule A, Item 7 requires the applicant “[f]or a new station or major change, (e.g., a change in azimuth or transmit antenna or an increase in power or frequency, etc.)” to attach as Exhibit A-4 a statement or showing detailing the results of a frequency coordination study performed pursuant to 47 CFR 78.36.

○ Licenses which contain incorrect information as a result of subsequent changes to the operations of the CARS license are not eligible for a waiver of the application processing fee and the licensee must request a waiver of the filing freeze (see below) for the modification application necessary to make the license accurate and complete.

○ All technical information must be entered into COALS for the CARS license to be eligible for incumbent status.

• Supply the information requested by FCC Form 327. To request a waiver of the filing freeze for applications where more than the mere completion of online records is taking place, append a short statement to Exhibit A-3, the “Statement of Eligibility,” establishing the reasoning for the waiver (i.e., that demonstrates that waiving the filing freeze for your application would serve the public interest and not undermine the objectives of the freeze).¹³ Complete the relevant certifications and submit the modification to complete the process.

¹³ See Freeze Public Notice at *2.

6. License Cancellations

BAS licenses are subject to termination following a discontinuance of service or failure to meet construction or coverage requirements.¹⁴ If a BAS license has terminated automatically the licensee should cancel it in ULS. CARS licenses are forfeited in whole or in part upon the voluntary removal or alteration of their facilities so as to render them not operational for a period of 30 days or more.¹⁵ CARS licensee stations that have not operated for one year or more are considered to have been permanently discontinued and are required to cancel their license in COALS.¹⁶

¹⁴ See 47 CFR 74.5(a)(4), 1.946, 1.953, 1.955.

¹⁵ Id. § 78.30(a).

¹⁶ Id. § 78.30(b).

Federal Communications Commission.
Blaise Scinto,
Chief, Broadband Division, Wireless Telecommunications Bureau.

[FR Doc. 2023-20089 Filed 9-15-23; 8:45 am]

BILLING CODE 6712-01-P